ENVIRONMENTAL PROTECTION AGENCY

40 CFR Part 52

[EPA-R03-OAR-2008-0931; FRL-9939-29-Region 3]

Approval and Promulgation of Air Quality Implementation Plans; Maryland; Attainment Demonstration for the Baltimore 8-Hour Ozone Moderate Nonattainment Area; Withdrawal of Proposed Rule

AGENCY: Environmental Protection Agency (EPA).

ACTION: Withdrawal of proposed rule.

SUMMARY: The EPA is withdrawing its proposed rule to disapprove Maryland's June 4, 2007 ozone attainment demonstration for the Baltimore Area. This withdrawal action is being taken under section 110 of the CAA.

DATES: The proposed rule published on May 8, 2009 (74 FR 21594), regarding the ozone attainment demonstration portion of Maryland's June 4, 2007 comprehensive SIP revision request for the Baltimore Area, is withdrawn as of December 4, 2015.

ADDRESSES: EPA has established docket number EPA-R03-OAR-2008-0931 for this action. The index to the docket is available electronically at http://www.regulations.gov and in hard copy at Air Protection Division, U.S. Environmental Protection Agency, Region III, 1650 Arch Street, Philadelphia, Pennsylvania 19103.

FOR FURTHER INFORMATION CONTACT: Maria A. Pino, 215-814-2181, or by email at pino.maria@epa.gov.

SUPPLEMENTARY INFORMATION: On May 8, 2009 (74 FR 21594), EPA published a proposed rule to disapprove the ozone attainment demonstration portion of a comprehensive State Implementation Plan (SIP) revision request submitted by the State of Maryland on June 4, 2007 to meet the Clean Air Act (CAA) requirements for attaining the 1997 8-hour ozone National Ambient Air Quality Standard (NAAQS) for the Baltimore moderate nonattainment area (Baltimore Area). On May 26, 2015 (80 FR 29970), EPA determined that the Baltimore Area attained the 1997 8-hour ozone NAAQS, thereby suspending the area's obligations to submit an attainment demonstration and other planning requirements related to attainment of the 1997 8-hour ozone NAAQS for as long as the area continues to attain the standard. On October 20, 2015, the State of Maryland withdrew the attainment demonstration (including modeling and weight of evidence), 2009 attainment year inventory, contingency measures for attainment, and 2009 transportation conformity budgets contained in Maryland's June 4, 2007 SIP revision request.

List of Subjects in 40 CFR Part 52

Environmental protection, Air pollution control, Carbon monoxide, Incorporation by reference, Nitrogen dioxide, Ozone, Reporting and recordkeeping requirements, Volatile organic compounds.

Dated: November 10, 2015.
Shawn M. Garvin,
Regional Administrator, Region III.

[FR Doc. 2015-30100 Filed 12-3-15; 8:45 am]

BILLING CODE 6560-50-P